DEPARTMENT OF LABOR

Office of the Assistant Secretary for Veterans' Employment and Training

“Homeless Veterans' Reintegration Program (HVRP) National Technical Assistance Center Cooperative Agreement(s)”

May 25, 2010.

AGENCY: Veterans' Employment and Training Service, Department of Labor.

Announcement Type: New Notice of Availability of Funds and Solicitation for Grant Applications. The full announcement is posted on http://www.grants.gov.

Funding Opportunity Number: SGA 10-06.

DATES: Key Dates: The closing date for receipt of applications is 30 days after publication via http://www.grants.gov.

Funding Opportunity Description

The U.S. Department of Labor (USDOL or Department), Veterans' Employment and Training Service (VETS), announces a cooperative agreement competition under 38 U.S.C. Section 2021, as added by Section 5 of Public Law 107-95, the Homeless Veterans Comprehensive Assistance Act of 2001 (HVCAA). Section 2021 authorizes programs to expedite the reintegration of homeless Veterans into the labor force. In order to assist the USDOL-VETS in carrying out 38 U.S.C. 2021, it is announcing the availability of funds for cooperative agreement(s) to assist in maintaining and improving upon the National Technical Assistance Center (NTAC) for the Homeless Veterans' Reintegration Program (HVRP) to include the Homeless Female Veterans and Homeless Veterans with Families Program (HFV/HVFP) and the Incarcerated Veterans Transition Program (IVTP).

HVRP grants are intended to address two objectives: (1) To provide services to assist in reintegrating homeless veterans into meaningful employment within the labor force, and (2) to stimulate the development of effective service delivery systems that will address the complex problems facing homeless veterans.

The full Solicitation for Grant Application is posted on http://www.grants.gov under U.S. Department of Labor/VETS. Applications submitted through http://www.grants.gov or hard copy will be accepted. If you need to speak to a person concerning these grants, you may telephone Cassandra Mitchell at 202-693-4570 (not a toll-free number). If you have issues regarding access to the http://www.grants.gov Web site, you may telephone the Contact Center Phone at 1-800-518-4726.

Signed at Washington, DC this 19th day of May, 2010.
Cassandra R. Mitchell,
Grant Officer.

[FR Doc. 2010-12505 Filed 5-24-10; 8:45 am]

BILLING CODE 4510-79-P